DEPARTMENT OF AGRICULTURE

Rural Business-Cooperative Service

[Docket No. RBS-21-BUSINESS-0028]

Notice of Solicitation of Applications for Inviting Applications for the Rural Economic Development Loan and Grant Programs for Fiscal Year 2022

AGENCY: Rural Business-Cooperative Service, USDA (Agency).

ACTION: Notice.

SUMMARY: The Rural Business-Cooperative Service (Agency), an agency of the United States Department of Agriculture (USDA) invites applications for loans and grants under the Rural Economic Development Loan and Grant Programs (REDLG or Programs) for fiscal year (FY) 2022, subject to the availability of funding. This notice is being issued to allow applicants sufficient time to leverage financing, prepare and submit their applications, and give the Agency time to process applications within FY 2022. Successful applications will be selected by the Agency for funding and subsequently awarded to the extent that funding may ultimately be made available through appropriations. An announcement on the Agency website at https://www.rd.usda.gov/newsroom/notices-solicitation-applications-nosas will identify the amount received in the FY 22 appropriations.

DATES: The deadlines for completed applications to be received in the USDA Rural Development State Office for quarterly funding competitions are no later than 4:30 p.m. (local time) on: First Quarter, September 30, 2021; Second Quarter, December 31, 2021; Third Quarter, March 31, 2022 and Fourth Quarter, June 30, 2022.

The application dates and times are firm. The Agency will not consider any application received after the deadline for funding competition in that fiscal quarter.

Applicants intending to mail applications must allow sufficient time to permit deliver on or before the closing deadline date and time. Acceptance by the United States Postal Service or private mailer does not constitute delivery.

Facsimile (FAX) or postage due applications will not be accepted.

ADDRESSES: Applications must be submitted to the USDA Rural Development State Office for the state where the project is located. Applications may be submitted in paper or electronic format to the appropriate Rural Development State Office and must be received by 4:30 p.m. local time on the deadline date(s). Applicants are encouraged to contact their respective State Office for an email contact to submit an electronic application prior to the submission deadline date(s). A list of the USDA Rural Development State Office contacts can be found at: https://www.rd.usda.gov/contact-us/state-offices. This notice will also be announced at: https://grants.gov.

FOR FURTHER INFORMATION CONTACT: Cindy Mason at cindy.mason@usda.gov, Program Management Division, Business Programs, Rural Business-Cooperative Service, U.S. Department of Agriculture, 1400 Independence Avenue SW, Stop 3226, Room 5160-South, Washington, DC 20250-3226, or call (202) 720-1400. For further information on this notice, please contact the USDA Rural Development State Office in the State in which the applicant's headquarters is located. A list of Rural Development State Office contacts is provided at the following link: https://www.rd.usda.gov/contact-us/state-offices.

SUPPLEMENTARY INFORMATION: The Agency encourages applicants to consider projects that will advance the key priorities below:

• Assisting Rural communities recover economically from the impacts of the COVID-19 pandemic, particularly disadvantaged communities.

• Ensuring all rural residents have equitable access to RD programs and benefits from RD funded projects.

• Reducing climate pollution and increasing resilience to the impacts of climate change through economic support to rural communities.

The Agency advises all interested parties that the applicant bears the burden in preparing and submitting an application in response to this notice whether or not funding is appropriated for these programs in FY 2022.

If the proposal involves new construction; large increases in employment; hazardous waste; a change in use, size, capacity, purpose, or location from an original facility; or is publicly controversial, the following is required: environmental documentation in accordance with 7 CFR part 1970; financial and statistical information; and written project description.

National Environmental Policy Act

All recipients under this notice are subject to the requirements of 7 CFR 1970, available at: https://rd.usda.gov/resources/environmental-studies/environmental-guidance.

Intergovernmental Review

This program is subject to Executive Order 12372, which requires intergovernmental consultation with state and local officials. Rural Development conducts intergovernmental consultation as implemented with 2 CFR part 415, subpart C. Not all States have chosen to participate in the intergovernmental review process. A list of participating States is available at the following website: https://www.whitehouse.gov/omb/management/office-federal-financial-management/.

Overview

Solicitation Opportunity Type: Rural Economic Development Loan and Grants.

Announcement Type: Initial Solicitation Announcement.

Catalog of Federal Domestic Assistance Number: 10.854.

Dates: The deadlines for complete applications to be received in the USDA Rural Development State Office for quarterly funding competitions are no later than 4:30 p.m. (local time) on: First Quarter, September 30, 2021; Second Quarter, December 31, 2021; Third Quarter, March 31, 2022 and Fourth Quarter, June 30, 2022.

Persistent poverty counties:

The Further Consolidated Appropriations Act, 2020, SEC. 740 designates funding for projects in persistent poverty counties. Persistent poverty counties as defined in SEC. 740 is “any county that has had 20 percent or more of its population living in poverty over the past 30 years, as measured by the 1990 and 2000 decennial censuses, and 2007-2011 American Community Survey 5-year average, or any territory or possession of the United States”. Another provision in SEC. 740 expands the eligible population in persistent poverty counties to include any county seat of such a persistent poverty county that has a population that does not exceed the authorized population limit by more than 10 percent. This provision expands the current 50,000 population limit to 55,000 for only county seats located in persistent poverty counties. Therefore, applicants and/or beneficiaries of technical assistance services located in persistent poverty county seats with populations up to 55,000 (per the 2010 Census) are eligible.

I. Program Description

A. Purpose of the Program

The Rural Economic Development Loan (REDL) and Grant (REDG) Programs (REDLG or Program(s)) provide financing to eligible Rural Utilities Service (RUS) electric or telecommunications borrowers (Intermediaries) to promote rural economic development and job creation projects. Assistance provided to rural areas, as defined, under this program may include business startup costs, business expansion, business incubators, technical assistance feasibility studies, advanced telecommunications services and computer networks for medical, educational, and job training services, and Community Facilities, as defined at 7 CFR 4280.3, projects for economic development.

B. Statutory Authority

These Programs are authorized under 7 U.S.C. 940c-2 and 7 CFR part 4280, subpart A.

C. Definition of Terms

The definitions applicable to this notice are published at 7 CFR 4280.3.

D. Application Awards

The Agency will review, evaluate, and score applications received in response to this notice based on the provisions found in 7 CFR part 4280, subpart A, and as indicated in this notice.

II. Federal Award Information

Type of Awards: Loans and Grants.

Fiscal Year Funds: FY 2022.

Available Funds: Anyone interested in submitting an application for funding under these Programs are encouraged to consult the Rural Development Notices of Solicitation of Applications website at https://www.rd.usda.gov/newsroom/notices-solicitation-applications-nosas.

Maximum Award: The Agency anticipates the following maximum amounts per award: Loans—$1,500,000; Grants—$300,000.

Anticipated Award Dates: First Quarter, November 30, 2021; Second Quarter, February 28, 2022; Third Quarter, May 31, 2022; and Fourth Quarter, August 31, 2022.

Performance Period: December 1, 2021, through September 30, 2023.

Renewal or Supplemental Awards: None.

III. Eligibility Information

A. Eligible Applicants

Loans and grants may be made to any entity that is identified by USDA Rural Development as an eligible borrower under the Rural Electrification Act of 1936, as amended (Act). In accordance with 7 CFR 4280.13, applicants that are not delinquent on any Federal debt or not otherwise disqualified from participation in these Programs are eligible to apply. An applicant must be eligible under 7 U.S.C. 940c. Notwithstanding any other provision of law, any former Rural Utilities Service borrower that has repaid or prepaid an insured, direct, or guaranteed loan under the Act, or any not-for-profit utility that is eligible to receive an insured or direct loan under such Act shall be eligible for assistance under section 313(b)(2)(B) of such Act in the same manner as a borrower under such Act. All other restrictions in this notice will apply.

B. Cost Sharing or Matching

For loans, either the ultimate recipient or the intermediary must provide supplemental funds for the project equal to at least 20 percent of the loan to the intermediary. For grants, the intermediary must establish a revolving loan fund and contribute an amount equal to at least 20 percent of the grant. The supplemental contribution must come from the intermediary's funds which may not be from other Federal grants, unless permitted by law.

C. Other

There are no “responsiveness” or “threshold” eligibility criteria for these loans and grants. There is no limit on the number of applications an applicant may submit under this announcement.

None of the funds made available by this or any other Act may be used to enter into a contract, memorandum of understanding, or cooperative agreement with, make a grant to, or provide a loan or loan guarantee to, any corporation that has any unpaid Federal tax liability that has been assessed, for which all judicial and administrative remedies have been exhausted or have lapsed, and that is not being paid in a timely manner pursuant to an agreement with the authority responsible for collecting the tax liability, where the awarding agency is aware of the unpaid tax liability, unless a Federal agency has considered suspension or debarment of the corporation and has made a determination that this further action is not necessary to protect the interests of the Government.

None of the funds made available by this or any other Act may be used to enter into a contract, memorandum of understanding, or cooperative agreement with, make a grant to, or provide a loan or loan guarantee to, any corporation that was convicted of a felony criminal violation under any Federal law within the preceding 24 months, where the awarding agency is aware of the conviction, unless a Federal agency has considered suspension or debarment of the corporation and has made a determination that this further action is not necessary to protect the interests of the Government.

D. Completeness Eligibility

Applications will not be considered for funding if they do not provide sufficient information to determine eligibility or are missing required elements.

IV. Application and Submission Information

A. Address To Request Application Package

For further information, entities wishing to apply for assistance should contact the USDA Rural Development State Office provided in the ADDRESSES section of this notice to obtain copies of the application package.

Prior to official submission of grant applications, applicants may request technical assistance or other application guidance from the Agency, as long as such requests are made at least 15 days prior to each quarter submission date. Technical assistance is not meant to be an analysis or assessment of the quality of the materials submitted, a substitute for agency review of completed applications, nor a determination of eligibility, if such determination requires in-depth analysis. The Agency will not solicit or consider scoring or eligibility information that is submitted after the application deadline. The Agency reserves the right to contact applicants to seek clarification information on materials contained in the submitted application.

Applications may be submitted in paper or electronic format to the appropriate Rural Development State Office and must be received by 4:30 p.m. local time on the deadline date(s) to compete for available funds in that quarter. Applicants are encouraged to contact their respective State Office for an email contact to submit an electronic application prior to the submission deadline date(s). Applications may be submitted to a Rural Development State Office at any time but must be received by 4:30 p.m. local time on deadline(s) to compete for the available funds in that fiscal quarter.

All applicants must have a Dun and Bradstreet Data Universal Numbering System (DUNS) number which can be obtained at no cost via a toll-free request line at (866) 705-5711 or at https://fedgov.dnb.com/webform. Each applicant applying for grant funds (unless the applicant is an individual or Federal awarding agency that is excepted from the requirements under 2 CFR 25.110(b) or (c) or has an exception approved by the Federal awarding agency under 2 CFR 25.110(d)) is required to: (i) Register in the System for Award Management (SAM) before submitting its application; (ii) provide a valid unique entity identifier in its application; (iii) continue to maintain an active SAM registration with current information at all times while the Agency is considering an application or while a Federal grant award or loan is active; and, (iv) complete the Financial Assistance General Certifications and Representations in SAM. The Federal awarding agency may not make a Federal award to an applicant until the applicant has complied with all applicable unique entity identifier and SAM requirements and, if an applicant has not fully complied with the requirements by the time the Federal awarding agency is ready to make a Federal award, the Federal awarding agency may determine that the applicant is not qualified to receive a Federal award and use that determination as a basis for making a Federal award to another applicant.

Please note that applicants must locate the downloadable application package for this program by the Catalog of Federal Domestic Assistance Number or FedGrants Funding Opportunity Number, which can be found at http://www.grants.gov.

B. Content and Form of Application Submission

An application must contain all of the required elements. Each selection priority criterion outlined in 7 CFR 4280.42(b) must be addressed in the application. Failure to address any of the criterion will result in a zero-point score for that criterion and will impact the overall evaluation of the application. Copies of 7 CFR part 4280, subpart A, will be provided to any interested applicant making a request to a Rural Development State Office. An original copy of the application package must be filed with the Rural Development State Office for the State where the intermediary is located.

(a) A complete application must include, but is not limited to, the following:

(1) An original and one copy of Form SF 424, “Application for Federal Assistance (for non-construction);”

(2) Copies of applicant's organizational documents showing the applicant's legal existence and authority to perform the activities under the Programs;

(3) A resolution of the Board of Directors;

(4) SF-LLL, “Restrictions on Lobbying”;

(5) RD Form 400-1, “Equal Opportunity Agreement (if construction);

(6) Evidence of compliance with the Earthquake Hazards Reduction Act of 1977, as amended (42 U.S.C. 7701 et seq.), “Seismic Safety of Federal and Federally Assisted or Regulated New Building Construction”;

(7) Documentation required in accordance with 7 CR part 1970, “Environmental Policies and Procedures”;

(8) A proposed scope of work, including a description of the proposed project, details of the proposed activities to be accomplished and timeframes for completion of each task, the number of months duration of the project, and the estimated time it will take from approval to beginning of project implementation;

(9) A written narrative that includes, at a minimum, the following items:

(i) An explanation of why the project is needed, the benefits of the proposed project, and how the project meets the grant eligible purposes, if applicable;

(ii) Area to be served, identifying each governmental unit, i.e., tribe, town, county, etc., to be affected by the project;

(iii) Description of how the project will coordinate economic development activities with other economic development activities within the project area;

(iv) Businesses to be assisted, if appropriate, and economic development to be accomplished;

(v) An explanation of how the proposed project will result in newly created, increased, or supported jobs in the area and the number of projected new and supported jobs within the next 3 years;

(vi) A description of the applicant's demonstrated capability and experience in providing the proposed project assistance, including experience of key staff members and persons who will be providing the proposed project activities and managing the project;

(vii) The method and rationale used to select the areas and businesses that will receive the service;

(viii) A brief description of how the work will be performed, including whether organizational staff or consultants or contractors will be used; and

(ix) Other information the Agency may request to assist it in making an award determination.

(10) The last 3 years of financial information to show the applicant's financial capacity to carry out the proposed work. If the applicant is less than 3 years old, at a minimum, the information should include all balance sheet(s), income statement(s), and cash flow statement(s). A current audited report is required if available;

(11) Documentation regarding the availability and amount of other funds to be used in conjunction with the funds from REDLG; and

(12) A budget which includes salaries, fringe benefits, consultant costs, indirect costs, and other appropriate direct costs for the project.

(b) The applicant documentation and forms needed for a complete application are listed above and at 7 CFR 4280.39. Applicants may request forms and addresses from the ADDRESSES section of this notice.

(c) There are no specific limitations on the number of pages, font size and type face, margins, paper size, number of copies, and the sequence or assembly requirements.

(d) The component pieces of this application should contain original signatures on the original application. Any form that requires an original signature but is signed electronically in the application submission, must be signed in ink by the authorized person prior to the disbursement of funds.

C. Submission Dates and Times

(a) Application Funding Competition Deadlines: No later than 4:30 p.m. (local time) on: First Quarter, September 30, 2021; Second Quarter, December 31, 2021; Third Quarter, March 31, 2022; and Fourth Quarter, June 30, 2022.

Explanation of Dates: Applications must be in the USDA Rural Development State Office by the dates and times as indicated above. If the due date falls on a Saturday, Sunday, or Federal holiday, the application is due the next business day.

(b) The deadline date means that the completed application package must be received in the USDA Rural Development State Office by the deadline date and time established above. All application documents identified in this notice are required.

(c) If completed applications are not received by the deadline established above, the application will neither be reviewed nor considered in that quarter under any circumstances.

(e) The grantee may utilize a previously approved indirect cost rate. Otherwise, the applicant may elect to charge the 10 percent indirect cost permitted under 2 CFR 200.414(f). An indirect cost rate determination may be requested with the application; however, due to the time required to evaluate indirect cost rates, it is likely that all funds will be awarded before the indirect cost rate is determined. No foreign travel is permitted. Pre-Federal award costs will only be permitted with prior written approval by the Agency.

(f) Applicants may submit applications in hard copy or electronic format as previously indicated in the Application and Submission Information section of this notice. If the applicant wishes to hand deliver its application, the addresses for these deliveries can be located in the ADDRESSES section of this notice.

(g) If you require alternative means of communication for program information (e.g., Braille, large print, audiotape, etc.) please contact USDA's TARGET Center at (202) 720-2600 (voice and TDD).

V. Application Review Information

A. Criteria

All eligible and complete applications will be evaluated and scored based on the selection criteria and weights contained in 7 CFR part 4280, subpart A. Failure to address any one of the criteria by the application deadline will result in the application being determined ineligible, and the application will not be considered for funding.

B. Review and Selection Process

The State Offices will review applications to determine if they are eligible for assistance based on requirements contained in 7 CFR part 4280, subpart A. If determined eligible, your application will be submitted to the National Office. Funding of projects is subject to the intermediary's satisfactory submission of the additional items required by that subpart and the USDA Rural Development Letter of Conditions. Discretionary points, under 7 CFR 4280.43(e), may be awarded for the following categories:

(a) Assisting Rural communities recover economically from the impacts of the COVID-19 pandemic, particularly disadvantaged communities. Applicant would receive priority points if the project is located in or serving one of the top 10% of counties or county equivalents based upon county risk score in the United States. The website, https://www.rd.usda.gov/priority-points, has the data to confirm if your location qualifies or not.

(b) Ensuring all rural residents have equitable access to RD programs and benefits from RD funded projects. Applicant would receive priority points if the project is located in or serving a community with score 0.75 or above on the CDC Social Vulnerability Index. The website, https://www.rd.usda.gov/priority-points, has the data to confirm if your location qualifies or not.

(c) Reduce climate pollution and increasing resilience to the impacts of climate change through economic support to rural communities. Applicants will receive points if the project is located in or serving coal, oil and gas, and power plant communities whose economic well-being ranks in the most distressed tier of the Distressed Communities Index. The website, https://www.rd.usda.gov/priority-points, has the data to confirm if your location qualifies or not. Or, applicants will receive points by demonstrating how proposed climate-impact projects improve the livelihoods of community residents and meet pollution mitigation or clean energy goals.

To ensure the broad geographic distribution of funding, the highest scoring application from each state will be grouped together and then ranked from highest to lowest score, with funds awarded in ranking order. If funds are available, the process of grouping, ranking, and awarding of funds will continue with the second highest scoring application from each state. The process will continue in this manner until all available funds have been awarded.

VI. Federal Award Administration Information

A. Federal Award Notices

Successful applicants will receive notification for funding from the Rural Development State Office. Applicants must comply with all applicable statutes and regulations before the loan/grant award can be approved. Provided the application and eligibility requirements have not changed, an eligible application not selected will be reconsidered in three subsequent quarterly funding competitions for a total of four competitions. If an application is withdrawn, it can be resubmitted and will be evaluated as a new application.

B. Administrative and National Policy Requirements

Additional requirements that apply to intermediaries or grantees selected for these Programs can be found in 7 CFR part 4280, subpart A. Awards are subject to USDA grant regulations at 2 CFR part 400 which adopts the Office of Management and Budget (OMB) regulations 2 CFR part 200.

All successful applicants will be notified by letter which will include a Letter of Conditions, and a Letter of Intent to Meet Conditions. This letter is not an authorization to begin performance. If the applicant wishes to consider beginning performance prior to the loan or grant being officially closed, all pre-award costs must be approved in writing and in advance by the Agency. The loan or grant will be considered officially awarded when all conditions in the Letter of Conditions have been met and the Agency obligates the funding for the project.

Additional requirements that apply to intermediaries or grantees selected for these Programs can be found in 7 CFR 4280, subpart A; Uniform Administrative Requirements, Cost Principles, and Audit Requirements for Federal Awards of the U.S. Department of Agriculture codified in 2 CFR 400.1 to 400.2, and 2 CFR part 415 to 422, and successor regulations to these parts.

In addition, all recipients of Federal financial assistance are required to report information about first-tier sub-awards and executive compensation (see 2 CFR part 170). You will be required to have the necessary processes and systems in place to comply with the Federal Funding Accountability and Transparency Act of 2006 (Pub. L. 109-282) reporting requirements (see 2 CFR 170.200(b), unless you are exempt under 2 CFR 170.110(b)).

The following additional requirements apply to intermediaries or grantees selected for these Programs:

(a) Form RD 4280-2 “Rural Business-Cooperative Service Financial Assistance Agreement.”

(b) Letter of Conditions.

(c) Form RD 1940-1, “Request for Obligation of Funds.”

(d) Form RD 1942-46, “Letter of Intent to Meet Conditions.”

(e) LLL, “Disclosure of Lobbying Activities,” if applicable.

(f) Form SF 270, “Request for Advance or Reimbursement.”

(g) Form RD 400-4, “Assurance Agreement” must be completed by the applicant and each prospective ultimate recipient.

(h) Form AD-3031, “Assurance Regarding Felony Conviction or Tax Delinquent Status for Corporate Applicants” must be signed by corporate applicants who receive an award under this notice.

(i) Intermediaries or grantees must collect and maintain data provided by ultimate recipients on race, sex, and national origin and ensure ultimate recipients collect and maintain this data. Race and ethnicity data will be collected in accordance with OMB Federal Register notice, “Revisions to the Standards for the Classification of Federal Data on Race and Ethnicity” (62 FR 58782), October 30, 1997. Sex data will be collected in accordance with Title IX of the Education Amendments of 1972. These items should not be submitted with the application but should be available upon request by the Agency.

(j) The applicant and the ultimate recipient must comply with Title VI of the Civil Rights Act of 1964, Title IX of the Education Amendments of 1972, Americans with Disabilities Act (ADA), Section 504 of the Rehabilitation Act of 1973, Age Discrimination Act of 1975, Executive Order 12250, Executive Order 13166 Limited English Proficiency (LEP), and 7 CFR part 1901, subpart E.

C. Reporting

(a) A financial status report and a project performance activity report will be required of all grantees on a quarterly basis until initial funds are expended and yearly thereafter, if applicable, based on the Federal fiscal year. The grantee will complete the project within the total time available to it in accordance with the scope of work and any necessary modifications thereof prepared by the grantee and approved by the Agency. A final project performance report will be required with the final financial status report. The final report may serve as the last quarterly report. The final report must provide complete information regarding the jobs created and supported as a result of the grant if applicable. Grantees must continuously monitor performance to ensure that time schedules are being met, projected work by time periods is being accomplished, and other performance objectives are being achieved. Grantees must submit an original of each report to the Agency no later than 30 days after the end of the quarter. The project performance reports must include, but not be limited to, the following:

(1) A comparison of actual accomplishments to the objectives established for that period;

(2) Problems, delays, or adverse conditions, if any, which have affected or will affect attainment of overall project objectives, prevent meeting time schedules or objectives, or preclude the attainment of particular project work elements during established time periods. This disclosure shall be accompanied by a statement of the action taken or planned to resolve the situation; and

(3) Objectives and timetable established for the next reporting period.

(4) Any special reporting requirements, such as jobs supported and created, businesses assisted, or economic development which results in improvements in median household incomes, and any other specific requirements, should be placed in the reporting section of the Letter of Conditions.

(5) Within 90 days after the conclusion of the project, the intermediary will provide a final project evaluation report. The last quarterly payment will be withheld until the final report is received and approved by the Agency. Even though the intermediary may request reimbursement on a monthly basis, the last 3 months of reimbursements will be withheld until a final report, project performance, and financial status report are received and approved by the Agency.

(b) In addition to any reports required by 2 CFR part 200 and 2 CFR 400.1 to 400.2 and 2 CFR part 415 to 422, the intermediary or grantee must provide reports as required by 7 CFR part 4280, subpart A.

G. Federal Awarding Agency Contact(s)

For general questions about this announcement, please contact your USDA Rural Development State Office provided in the ADDRESSES section of this notice.

H. Civil Rights Requirements

All grants made under this notice are subject to Title VI of the Civil Rights Act of 1964 as required by the USDA (7 CFR part 15, subpart A) and Section 504 of the Rehabilitation Act of 1973, Title VIII of the Civil Rights Act of 1968, Title IX, Executive Order 13166 (Limited English Proficiency), Executive Order 11246, and the Equal Credit Opportunity Act of 1974.

I. Other Information

Paperwork Reduction Act

In accordance with the Paperwork Reduction Act of 1995, the information collection requirement contained in this notice has been approved by OMB under OMB Control Number 0570-0070.

Nondiscrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.ocio.usda.gov/document/ad-3027, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

Karama Neal,
Administrator, Rural Business-Cooperative Service.

[FR Doc. 2021-19177 Filed 9-3-21; 8:45 am]

BILLING CODE 3410-XY-P